DEPARTMENT OF TRANSPORTATION

Federal Aviation Administration

14 CFR Part 183

National Policy Regarding Organization Designation Authorization (ODA) Holder Interference With Unit Members (UMs) and Communication Between UMs and the Federal Aviation Administration (FAA)

AGENCY: Federal Aviation Administration (FAA), DOT.

ACTION: Notification of availability; request for comments.

SUMMARY: This document would supplement FAA Order 8100.15B, Organization Designation Authorization (ODA) Procedures, for FAA personnel and those seeking or wishing to maintain ODA holder privileges.

DATES: Comments must be received on or before March 10, 2022.

ADDRESSES: Send comments with the subject line, “National Policy Regarding Organization Designation Authorization (ODA) Holder Interference with ODA Unit Members (UMs) and Communication between UMs and the Federal Aviation Administration” on all submitted correspondence using the following method: Email comments to: Emily.CTR.Rogers@faa.gov.

Privacy: In addition to the final Notice, the FAA will post all comments it receives, without change, to http://drs.faa.gov, including any personal information the commenter provides. DOT's complete Privacy Act Statement can be found in the Federal Register published on April 11, 2000 (65 FR 19477-19478), as well as at http://DocketsInfo.dot.gov.

FOR FURTHER INFORMATION CONTACT: Mr. Trey McClure, Flight Standards Service, AFS-600, by email at Trey.McClure@faa.gov, or Mr. Scott Geddie, Aircraft Certification Service, AIR-600, by email at Scott.Geddie@faa.gov.

SUPPLEMENTARY INFORMATION:

Discussion

Section 107 of the Aircraft Certification, Safety, and Accountability Act of 2020 (the Act) addresses, in part, preventing interference with Unit Members (UMs) of companies that hold Organization Designation Authorization (ODA), and allowing communication between ODA UMs and the FAA. The FAA seeks comments on a draft statement that responds to Section 107 requirements by providing procedures for ODA holder investigation and prevention of interference, for FAA oversight of ODAs, and for communication between ODA UMs and the FAA. The Notice supplements FAA Order 8100.15B, Organization Designation Authorization (ODA) Procedures (available at http://drs.faa.gov) and may be examined at https://www.faa.gov/aircraft/draft_ docs/.

Comments Invited

The FAA invites interested stakeholders to submit comments on the proposed statement, as specified in the ADDRESSES section of this Notice. Commenters should include the subject line, “Organization Designation Authorization (ODA) Holder Interference with ODA Unit Members (UMs) and Communication between UMs and the Federal Aviation Administration (FAA)” on all comments submitted to the FAA. The most helpful comments reference a specific recommendation, explain the reason for any recommended change, and include supporting information. The FAA will consider all comments received on or before the closing date before issuing the final Notice. The FAA will also consider late filed comments if it is possible to do so without incurring expense or delay.

Issued in Washington, DC, on February 4, 2022.
Brandon Roberts,
Executive Director, Office of Rulemaking.

[FR Doc. 2022-02744 Filed 2-7-22; 11:15 am]

BILLING CODE 4910-13-P